DEPARTMENT OF COMMERCE

National Oceanic and Atmospheric Administration

RIN 0648-XC820

North Pacific Fishery Management Council (NPFMC); Public Meetings

AGENCY: National Marine Fisheries Service (NMFS), National Oceanic and Atmospheric Administration (NOAA), Commerce.

ACTION: Notice of public meetings.

SUMMARY: The North Pacific Fishery Management Council's (Council) Gulf of Alaska (GOA) and Bering Sea/Aleutian Islands (BS/AI) groundfish plan teams will meet in Seattle, WA.

DATES: The meetings will be held September 10-13, 2013. The meetings will begin at 9 a.m. on Tuesday, September 10, and continue through Friday September 13, 2013.

ADDRESSES: The meetings will be held at the Alaska Fisheries Science Center, 7600 Sand Point Way NE., Building 4, National Marine Mammal Lab Room 2039 (GOA Plan Team) and Traynor Room 2076 (BS/AI Plan Team, Joint meeting), Seattle, WA.

Council address: North Pacific Fishery Management Council, 605 W. 4th Ave., Suite 306, Anchorage, AK 99501-2252.

FOR FURTHER INFORMATION CONTACT: Jane DiCosimo or Diana Stram, NPFMC; telephone: (907) 271-2809.

SUPPLEMENTARY INFORMATION: Agenda: Principal business is to recommend proposed groundfish catch specifications for 2014/15. The teams also will review status reports on various management actions, review the draft Ecosystems Considerations Chapter, review the draft BSAI forage fish chapter, review proposed changes to Bering Sea/Aleutian Island and Gulf of Alaska groundfish stock assessment models, as well as other reports. The Agenda is subject to change, and the latest version is posted at http://www.alaskafisheries.noaa.gov/npfmc/PDFdocuments/meetins/GPTagenda912.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen, (907) 271-2809, at least 5 working days prior to the meeting date.

Dated: August 16, 2013.
William D. Chappell,
Acting Deputy Director, Office of Sustainable Fisheries, National Marine Fisheries Service.

[FR Doc. 2013-20391 Filed 8-20-13; 8:45 am]

BILLING CODE 3510-22-P